DEPARTMENT OF TRANSPORTATION

Surface Transportation Board

[Docket No. FD 35900]

CCET, LLC—Lease and Operation Exemption—Rail Line of Norfolk Southern Railway Company in Clermont, Brown, and Adams Counties, Ohio

CCET, LLC (CCET), a Class III carrier, has filed a verified notice of exemption under 49 CFR 1150.41 to lease from Norfolk Southern Railway (NSR) and operate a portion of NSR's CT Line, between milepost CT 32.83 and milepost CT 62.20, east of Seaman, Ohio (Line Extension).

CCET and NSR entered into a lease agreement on March 14, 2014, under which CCET currently leases a 24-mile portion of the CT Line between milepost CT 9.0 at Clare, Ohio, and milepost CT 32.83, west of Williamsburg, Ohio.¹ The parties now desire to amend the lease to include the Line Extension to the east, which would allow CCET to pursue additional commercial opportunities.² NSR will retain limited overhead trackage rights over the Line Extension.

¹ See CCET, LLC—Lease & Operation Exemption—Rail Line of Norfolk S. Ry., FD 35810 (STB served Apr. 4, 2014).

² On January 15, 2015, the Board allowed NSR to discontinue its freight rail service over approximately 40.7 miles of rail line, including the Line Extension, in Clermont, Brown, and Adams Counties, Ohio; the exemption should become effective on February 14, 2015. See Norfolk S. Ry.—Discontinuance of Serv. Exemption—in Clermont, Brown, & Adams Cntys., Ohio, AB 290 (Sub-No. 370X) (STB served Jan. 15, 2015). Upon reaching an agreement with CCET to lease and operate the Line Extension, however, NSR informed the Board by letter dated January 20, 2015, that it will not effectuate discontinuance over the Line Extension. See CCET Petition, Ex. D.

This transaction is related to a concurrently filed verified notice of exemption in Paul Didelius—Continuance in Control—CCET, LLC, Docket No. FD 35901, in which Paul Didelius seeks Board approval to continue in control of CCET under 49 CFR 1180.2(d)(2).

CCET states that the lease between CCET and NSR does not contain any provision that prohibits, restricts, or would otherwise limit future interchange of traffic with any third-party carrier.

CCET has certified that its projected annual revenues as a result of this transaction will not result in CCET's becoming a Class II or Class I rail carrier and will not exceed $5 million.

CCET states that the lease and operation of the Line Extension will commence on or after February 21, 2015, the effective date of the exemption (30 days after the verified notice of exemption was filed).

If the verified notice contains false or misleading information, the exemption is void ab initio. Petitions to revoke the exemption under 49 U.S.C. 10502(d) may be filed at any time. The filing of a petition to revoke will not automatically stay the effectiveness of the exemption. Petitions for stay must be filed no later than February 13, 2015 (at least seven days before the exemption becomes effective).

An original and 10 copies of all pleadings, referring to Docket No. FD 35900, must be filed with Surface Transportation Board, 395 E Street SW., Washington, DC 20423-0001. In addition, one copy of each pleading must be served on James H.M. Savage, 22 Rockingham Court, Germantown, MD 20874.

Board decisions and notices are available on our Web site at “www.stb.dot.gov.”

Decided: February 3, 2015.
By the Board, Rachel D. Campbell, Director, Office of Proceedings.
Brendetta S. Jones,
Clearance Clerk.

[FR Doc. 2015-02410 Filed 2-5-15; 8:45 am]

BILLING CODE 4915-01-P